DEPARTMENT OF HEALTH AND HUMAN SERVICES

Administration for Children and Families

Proposed Information Collection Activity; Comment Request

Proposed Projects: Domestic Victims of Human Trafficking (DVHT) Program.

Title: Program Progress Report (PPR).

OMB No:

Description: The Family and Youth Services Bureau (FYSB) in collaboration with the Office on Trafficking in Persons (OTIP) will award approximately 12 cooperative agreements to implement the Domestic Victims of Human Trafficking (DVHT) Program. The DVHT Program is focused on providing comprehensive case management services to domestic victims of severe forms of trafficking to ensure the provision of services with an emphasis on long-term housing, substance abuse treatment, and the integration of survivor-led services.

The intent of this program is to build, expand, and sustain organizational and community capacity to deliver trauma-informed, strength-based, and victim-centered services for domestic victims of human trafficking through coordinated case management, a system of agency services, and community partnerships. The DVHT Program encourages innovative practices and collaboration efforts among community stakeholders to ensure long-term outcomes for domestic victims of severe forms of trafficking.

The Program Progress Report (PPR) aims to measure the progress of the DVHT programs. Grantees are not required to conduct surveys. They will be collecting non-identical information on specific elements as part of their program requirements. The PPR data is intended to be used only to learn about: a) program implementation, b) effectiveness of programs, and c) to ensure programs are meeting goals/objectives as required by funding opportunity announcement. The PPR will be submitted by grantees every 6 months.

Respondents: 12 grantees.

Annual Burden Estimates
Instrument | Number of respondents | Number of responses per respondent | Average burden hours per response | Total burden hours
PPR | 12 | 2 | 1 | 24

Estimated Total Annual Burden Hours:

In compliance with the requirements of section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 330 C Street SW., Washington DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2016-10509 Filed 5-4-16; 8:45 am]

BILLING CODE 4184-01-P